ENVIRONMENTAL PROTECTION AGENCY

[2005-0052; FRL-7919-3]

Agency Information Collection Activities: Proposed Collection; Comment Request; Enforcement Policy Regarding the Sale and Use of Aftermarket Catalytic Converters, EPA ICR Number 1292.06, OMB Control Number 2060-0135

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on August 31, 2005. Before submitting the ICR to OMB for review and approval, EPA is soliciting comments on specific aspects of the proposed information collection as described below.

DATES: Comments must be submitted on or before August 1, 2005.

ADDRESSES: Submit your comments, referencing docket ID number 2005-0052 to EPA online using EDOCKET (our preferred method), by e-mail to OECA.docket@epa.gov, or by surface mail to: EPA Docket Center, Environmental Protection Agency, Office of Enforcement and Compliance Assurance (OECA), mail code 2201T, 1200 Pennsylvania Ave., NW., Washington, DC 20460.

FOR FURTHER INFORMATION CONTACT: Jack McLaughlin, Telephone: (303) 236-9513, Facsimile number: (303) 236-9514); e-mail: mclaughlin.jackj@epa.gov.

SUPPLEMENTARY INFORMATION: EPA has established a public docket for this ICR under Docket ID number 2005-0052, which is available for public viewing at the OECA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OECA Docket Office is (202) 566-1752 An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or on paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities affected by this action are manufacturers, reconditioners, and installers of aftermarket and/or reconditioned automotive catalytic converters (converters).

Title: Aftermarket Catalytic Converter Enforcement Policy (Renewal).

Abstract: Section 203(a)(3) of the Clean Air Act (Act) prohibits removing or rendering inoperative automobile emission control devices or elements of design in a motor vehicle. But for the adoption of the Aftermarket Catalytic Converter Enforcement Policy (51 FR 28114-28119, 28133 (August 5, 1986); 52 FR 42144 (November 3, 1987), 67 FR 319-320 (January 3, 2002) the manufacture, sale, or installation of aftermarket converters not equivalent to new original equipment (OE) converters would constitute a violation of the Act. Because replacement OE converters are expensive, many consumers had elected to not replace converters that malfunctioned subsequent to the expiration of the emissions warranty on their vehicles. Manufacturers of new aftermarket converters are required (67 FR 319-320, January 3, 2002), on a one-time basis, for each converter line manufactured, to identify the converter's physical specifications and summarize pre-production testing of the prototype. In addition, the manufacturer must submit semi-annual reports to EPA of the number of each type of converter manufactured. We are proposing to drop the requirement to submit a summary (or copies at manufacturer's option) of warranty card information and solicit comment on this proposal and the incremental reduction in burden as a result. The requirement to retain the information (and the cards themselves) for 5 (five) years would continue, and would be subject to EPA inspection. With this notice, we also solicit comment for a modification to the existing requirement to label converters, to further require that the label be affixed to the converter(s) on a surface that is visible from the underside of the vehicle once the converter(s) is/are installed on the vehicle. This will insure that installed converters can be visually verified for compliance with EPA aftermarket converter policy requirements.

Reconditioners of used converters must, on a one-time basis, identify themselves and provide information regarding their equipment and procedures followed to comply with this policy. All used OE converters must be individually bench-tested, and the company must submit semi-annual reports to EPA disclosing the identity of persons who distribute the reconditioned converters and the number of reconditioned converters of each type that are sold to each distributor.

Companies that install aftermarket converters have no reporting requirements but must keep copies of installation invoices and records for 6 (six) months that specify the reason an aftermarket converter installation was permissible. A technical change will be made to specify that the warranty period for the OE converter originally installed on the vehicle is 8 years/80,000 miles starting with the 1995 model year. Therefore, aftermarket or reconditioned converters generally cannot be installed on 1995 and newer vehicles until the vehicles are at least 8 (eight) years old, or have accumulated 80,000 miles of service life, whichever comes first. This change is necessary to update this policy to conform to regulatory requirements for 1995 Model Year and newer vehicles. Removed converters must be tagged with identifying information and retained for 15 days. EPA allows the use of pre-printed documents or computer-generated documents. All the recordkeeping under the policy is authorized by section 114 of the Act, 42 U.S.C. 7414 and section 208 of the Act, 42 U.S.C. 7542 and is a mandatory condition for participation in this voluntary alternative program to manufacturing converters equivalent to OE. Noncompliance with the recordkeeping and reporting requirements violates section 203(a)(3) of the Act, 42 U.S.C. 7522(a)(3). Parties who comply with these policies are allowed to install aftermarket converters instead of OE converters. Confidentiality provisions are found at 40 CFR part 2. These requirements have been in effect for over 15 years. Startup costs have been completed. This proposed ICR renewal utilizes assumptions that are the same as the previous ICR.

An agency may not conduct or sponsor, and a person is not required to respond to, a collection of information unless it displays a currently valid OMB control number. The OMB control numbers for EPA's regulations are listed in 40 CFR part 9 and 48 CFR chapter 15. In addition to this information, you may obtain a copy of the draft ICR supporting statement as provided above.

The EPA would like to solicit comments to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses.

Burden Statement: For manufacturers of new aftermarket converters, the average hourly burden per year per respondent is approximately 5 hours for the reporting required by the policy and the associated record keeping. The reporting is mandatory. The frequency of response is estimated at 1 report per year for a new product line and 2 reports per year on manufacturing information. There are 6 (six) respondents in the country covered by the requirements. Total burden for all manufacturers of new aftermarket converters is about 60 hours per year. There are annual operating costs of about $60 per manufacturer, and service costs of $35,700 per respondent. There are no annualized capital costs. Startup costs have been completed.

For converter reconditioners, the average annual hourly reporting burden is 631 hours per respondent. The reporting is mandatory. The frequency of response is 2 reports per year based on approximately 8900 tests of used converters per respondent. Total burden for the 8 respondents is about 5048 hours. There are annual operation/maintenance costs of approximately $200 per respondent. There are annualized capital costs of about $38,244 per respondent. For aftermarket converter installers, there is no reporting burden. The average annual record keeping burden is approximately 3.5 hours per respondent. Total burden for the estimated 30,000 installers is 105,000 hours.

Burden means the total time, effort, or financial resources expended by persons to generate, maintain, retain, disclose, or otherwise provide information to or for a federal agency. This includes the time needed to review instructions; to develop, and utilize technology and systems for the purposes of collecting and validating information; processing and maintaining information, and providing information as required. Training personnel to accurately respond to the collection of information; searching data sources; reviewing, transmitting, and/disclosing information are also part of the burden.

Dated: May 23, 2005.
Walker Smith,
Director, Office of Civil Enforcement.

[FR Doc. 05-10766 Filed 5-27-05; 8:45 am]

BILLING CODE 6560-50-P